DEPARTMENT OF COMMERCE

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Pacific Islands Logbook Family of Forms.

Form Number(s): None.

OMB Approval Number: 0648-0214.

Type of Request: Regular submission.

Burden Hours: 2,483.

Number of Respondents: 207.

Average Hours Per Response: 14 minutes.

Needs and Uses: The fishermen in Federally-managed fisheries in the western Pacific region are required to provide certain information about their fishing activities. Amendment 11 to the Fishery Management Plan for Pelagic Fisheries of the Western Pacific Region now necessitates a revised collection of information. The owners of large (>40 ft. in length) fishing vessels registered for use with American Samoa limited access longline permits would be required to notify NMFS of their vessels' intent to depart from port on a fishing trip. The pre-trip information enables NMFS to determine if that vessel must carry an observer.

Affected Public: Business or other for-profit organizations; Individuals or households.

Frequency: On occasion.

Respondent's Obligation: Mandatory.

OMB Desk Officer: David Rostker, (202) 395-3897.

Copies of the above information collection proposal can be obtained by calling or writing Diana Hynek, Departmental Paperwork Clearance Officer, (202) 482-0266, Department of Commerce, Room 6625, 14th and Constitution Avenue, NW, Washington, DC 20230 (or via the Internet at dHynek@doc.gov).

Written comments and recommendations for the proposed information collection should be sent within 30 days of publication of this notice to David Rostker, OMB Desk Officer, FAX number (202) 395-7285, or David_Rostker@omb.eop.gov.

Dated: March 10, 2005.
Gwellnar Banks,
Management Analyst, Office of the Chief Information Officer.

[FR Doc. 05-5239 Filed 3-16-05; 8:45 am]

BILLING CODE 3510-22-P